FEDERAL COMMUNICATIONS COMMISSION

[AU Docket No. 14-252, GN Docket No. 12-268, WT Docket No. 12-269; DA 15-1357]

Wireless Telecommunications Bureau Releases Impairment File Formats for Forward Auction

AGENCY: Federal Communications Commission.

ACTION: Notice.

SUMMARY: This document provides information regarding data specifications for forward Auction 1002.

FOR FURTHER INFORMATION CONTACT: Wireless Telecommunications Bureau, Auctions and Spectrum Access Division: For general forward auction questions: Sasha Javid at (202) 418-0660.

SUPPLEMENTARY INFORMATION: This is a summary of the Auction 1002 Impairment Formats Specifications Public Notice, AU Docket No. 14-252, GN Docket No. 12-268, WT Docket No. 12-269, DA 15-1357, released on November 24, 2015. The complete text of the Auction 1002 Impairment Formats Specifications Public Notice, including the attachment is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/. Alternative formats are available to persons with disabilities by sending an email to FCC504@fcc.gov or by calling the Consumer & Governmental Affairs Bureau at (202) 418-0530 (voice), (202) 418-0432 (TTY).

I. General Information

1. The Auction 1002 Impairment Formats Specifications Public Notice provides specifications for impairment file formats so that prospective forward auction bidders in the broadcast incentive auction can begin familiarizing themselves with the file formats in which impairment information will be made available. Qualified bidders in the forward auction (Auction 1002) will have access to detailed impairment information upon receipt of their registration materials. The specifications released in the Public Notice include sample impairment data only.

Federal Communications Commission.
William Huber,
Associate Chief, Auctions and Spectrum Access Division, WTB.

[FR Doc. 2015-30817 Filed 12-4-15; 8:45 am]

BILLING CODE 6712-01-P